DEPARTMENT OF COMMERCE

National Oceanic and Atmospheric Administration

50 CFR Part 665

[Docket No. 100618274-0543-03]

RIN 0648-AY92

Fisheries in the Western Pacific; Hawaii Bottomfish and Seamount Groundfish; Measures To Rebuild Overfished Armorhead at Hancock Seamounts

AGENCY: National Marine Fisheries Service (NMFS), National Oceanic and Atmospheric Administration (NOAA), Commerce.

ACTION: Final rule.

SUMMARY: This final rule prohibits fishing for bottomfish and seamount groundfish at the Hancock Seamounts until the overfished U.S. stock of pelagic armorhead (Pseudopentaceros wheeleri) is rebuilt, and classifies the area around the Hancock Seamounts as an ecosystem management area. This rule is intended to rebuild the armorhead stock and facilitate research on armorhead and other seamount groundfish.

DATES: This rule is effective December 10, 2010.

ADDRESSES: Amendment 2 to the Fishery Ecosystem Plan for the Hawaiian Archipelago (FEP) describes the background and details of this action. Amendment 2 also contains an environmental assessment and is available from http://www.regulations.gov, or the Western Pacific Fishery Management Council (Council), 1164 Bishop St., Suite 1400, Honolulu, HI 96813, tel 808-522-8220, fax 808-522-8226, or http://www.wpcouncil.org.

FOR FURTHER INFORMATION CONTACT: Jarad Makaiau, Sustainable Fisheries, NMFS Pacific Islands Region, 808-944-2108.

SUPPLEMENTARY INFORMATION: Armorhead are overfished because of over-exploitation by foreign vessels in international waters dating back to the 1980s, and probably earlier. Although there has never been a U.S. fishery targeting this fish, continued exploitation outside the U.S. Exclusive Economic Zone (EEZ) by foreign fleets has kept the stock in an overfished condition. The Hancock Seamounts are the only known armorhead habitat within the EEZ. These seamounts lie west of 180 °W. and north of 28 °N. in the Northwestern Hawaiian Islands.

The Council and NMFS previously responded to the overfished condition of armorhead with a series of four, 6-year domestic fishing moratoria at the Hancock Seamounts, beginning in 1986. The most recent 6-year moratorium expired on August 31, 2010. This final rule prohibits fishing for bottomfish and seamount groundfish at the seamounts until the armorhead stock is rebuilt, and classifies the EEZ around the Hancock Seamounts as an ecosystem management area. This final rule will aid in rebuilding the armorhead stock, and will facilitate research on armorhead and other seamount groundfish.

Additional background information on this final rule is found in the preamble to the proposed rule published on August 30, 2010 (75 FR 52921), and is not repeated here. The public comment period for the proposed rule ended on October 14, 2010. NMFS did not receive any comments.

Changes From the Proposed Rule

There no changes from the proposed rule.

Classification

The Regional Administrator, Pacific Islands Region, NMFS, determined that this final rule is necessary for the conservation and management of Hawaii seamount and groundfish fisheries, and that it is consistent with the Magnuson-Stevens Fishery Conservation and Management Act and other applicable laws.

This final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required, and none was prepared.

List of Subjects in 50 CFR Part 665

Armorhead, Bottomfish, Fisheries, Fishing, Hancock seamounts, Hawaii, Seamount groundfish.

Dated: November 4, 2010.
Samuel D. Rauch III,
Deputy Assistant Administrator for Regulatory Programs, National Marine Fisheries Service.

For the reasons set out in the preamble, 50 CFR part 665 is amended as follows:

PART 665—FISHERIES IN THE WESTERN PACIFIC

1. The authority citation for part 665 continues to read as follows:

Authority: 16 U.S.C. 1801 et seq.

2. In § 665.202, revise paragraph (a)(3) to read as follows:

§ 665.202 Management subareas.

(a) * * *

(3) Hancock Seamounts Ecosystem Management Area means that portion of the EEZ in the Northwestern Hawaiian Islands west of 180 °W. long. and north of 28 °N. lat.

* * * * *

3. In § 665.204, add new paragraph (k) to read as follows:

§ 665.204 Prohibitions.

* * * * *

(k) Fish for or possess any Hawaii bottomfish or seamount groundfish MUS in the Hancock Seamounts Ecosystem Management Area, in violation of § 665.209.

4. Revise § 665.209 to read as follows:

§ 665.209 Fishing moratorium at Hancock Seamounts.

Fishing for, and possession of, Hawaii bottomfish and seamount groundfish MUS in the Hancock Seamounts Ecosystem Management Area is prohibited until the Regional Administrator determines that the armorhead stock is rebuilt.

[FR Doc. 2010-28413 Filed 11-9-10; 8:45 am]

BILLING CODE 3510-22-P